DEPARTMENT OF COMMERCE

National Oceanic and Atmospheric Administration

RIN 0648-XC862

Marine Mammals; File No. 18171

AGENCY: National Marine Fisheries Service (NMFS), National Oceanic and Atmospheric Administration (NOAA), Commerce.

ACTION: Notice; issuance of permit.

SUMMARY: Notice is hereby given that a permit has been issued to Wessley Merten, Marine Sciences Department, University of Puerto Rico, Mayagüez Campus, PO Box 9000, Mayagüez, PR 00682, to conduct commercial or educational photography of bottlenose dolphins (Tursiops truncatus), spinner dolphins (Stenella longirostris), striped dolphins (Stenella coeruleoalba), false killer whales (Pseudorca crassidens), and killer whales (Orcinus orca) in waters off Puerto Rico.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Rosa L. González or Carrie Hubard, (301) 427-8401.

SUPPLEMENTARY INFORMATION: On September 12, 2013, notice was published in the Federal Register (78 FR 56218) that a request for a permit to conduct commercial or educational photography had been submitted by the above-named applicant. The requested permit has been issued under the authority of the Marine Mammal Protection Act of 1972, as amended (16 U.S.C. 1361 et seq.), and the regulations governing the taking and importing of marine mammals (50 CFR part 216).

Permit No. 18171 authorizes commercial/educational underwater and vessel-based filming and photography of marine mammals in waters off Puerto Rico. Footage will be used in two documentaries, one focused on offshore sport fishing in Puerto Rico and another one focused on Puerto Rico's marine mammal and marine mammal program (i.e., Department of Natural and Environmental Resources Marine Mammal Rescue Program). The first documentary will be presented at a film festival in Puerto Rico and distributed to schools and the public throughout Puerto Rico. A maximum of 210 bottlenose, 210 spinner, and 210 striped dolphins, 60 false killer and 60 killer whales, could be approached and filmed annually. Filming may occur year-round. The permit is valid through November 7, 2015.

In compliance with the National Environmental Policy Act of 1969 (42 U.S.C. 4321 et seq.), a final determination has been made that the activity proposed is categorically excluded from the requirement to prepare an environmental assessment or environmental impact statement.

Dated: November 13, 2013.
P. Michael Payne,
Chief, Permits and Conservation Division, Office of Protected Resources, National Marine Fisheries Service.

[FR Doc. 2013-27516 Filed 11-15-13; 8:45 am]

BILLING CODE 3510-22-P